DEPARTMENT OF HOMELAND SECURITY

Coast Guard

33 CFR Part 117

[CGD08-03-049]

RIN 1625-AA09

Drawbridge Operation Regulation; Belle River, Belle River, LA

AGENCY: Coast Guard, DHS.

ACTION: Final rule.

SUMMARY: The Coast Guard is temporarily changing the regulation governing the operation of the State Route 70 pontoon drawbridge across Belle River, mile 23.8, near Belle River, Louisiana. The temporary change will allow the bridge operations to be adjusted to facilitate the relocation of the tender's house. The final rule will be in effect for eight months from May 15, 2004, to January 15, 2005.

DATES: This rule is effective from May 15, 2004 to January 15, 2005.

ADDRESSES: Comments and material received from the public, as well as documents indicated in this preamble as being available in the docket, are part of docket CGD8-03-049 and are available for inspection or copying at 500 Poydras Street, Room 1313, New Orleans, Louisiana 70130-3310 between 7 a.m. and 3 p.m., Monday through Friday, except Federal holidays. The telephone number is 504-589-2965. The Commander, Eighth Coast Guard District, Bridge Administration Branch maintains the public docket for this rulemaking.

FOR FURTHER INFORMATION CONTACT: Mr. David Frank, Bridge Administration Branch, at (504) 589-2965.

SUPPLEMENTARY INFORMATION:

Regulatory History

On January 9, 2004, we published a notice of proposed rulemaking (NPRM) entitled Drawbridge Operation Regulations; Belle River, Belle River, LA in the Federal Register (69 FR 1554). We received one letter regarding the NPRM and that letter offered no comments or objections. No public meeting was requested, and none was held.

Background and Purpose

The Coast Guard, at the request of the Louisiana Department of Transportation and Development (LDOTD), issued a Notice of Proposed Rulemaking on January 9, 2004 to temporarily change the operation of the State Route 70 pontoon drawbridge across Belle River (on the Gulf Intracoastal Waterway Morgan City to Port Allen Alternate Route (Landside Route)), mile 23.8, at Belle River, Louisiana. During construction of the bridge tender's house, vehicular traffic will be limited to one lane. Since the bridge tender's house will be removed and replaced, the tender will have no place to stay at night or during inclement weather. The final rule allows for the continued operation of the bridge with minor changes to the operating schedule. Presently, 33 CFR 117.424 requires that the draw of the S70 bridge, mile 23.8 (Landside Route) near Belle River, must open on signal; except that, from 10 p.m. to 6 a.m., the draw must open on signal if at least four hours notice is given. During the advance notice period, the draw must open on less than four hours notice for an emergency and open on demand should a temporary surge in waterway traffic occur.

LDOTD indicates that approximately 60 vessels per month pass through the bridge site.

The final rule requires the bridge to continue to operate normally from 8 a.m. to 5 p.m. Monday through Friday while opening on signal with four hours advance notice at all other times. The advance notice requirement would affect marine traffic for an additional two hours in the mornings and five hours in the evenings. Additionally, mariners would be required to give advance notification on weekends. This proposed change allows for the replacement of the bridge tender's house while not unnecessarily inconveniencing the mariners transiting the waterway. An alternate route is available via the Morgan City to Port Allen Alternate Route. This final rule will be in effect for 8 months.

Discussion of Comments and Changes

There were no comments received regarding the proposed change, therefore; no changes to the proposal were made and no changes have been incorporated into the Final Rule.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary.

This rule requires advance notification during the evening and night hours of operation of the bridge and on weekends. A review of the bridge log indicates that minimal requests to open the bridge during these periods have been made in the past, and there is no indication that there will be a future increase.

Under the Regulatory Flexibility Act (5 U.S.C. 601-612), we have considered whether this final rule would have a significant economic impact on a substantial number of small entities. The term “small entities” comprises small businesses, not-for-profit organizations that are independently owned and operated and are not dominant in their fields, and governmental jurisdictions with populations of less than 50,000.

The Coast Guard certifies under 5 U.S.C. 605(b) that this final rule would not have a significant economic impact on a substantial number of small entities. This proposed final rule would affect the following entities, some of which may be small entities: the owners or operators of vessels who need to transit through mile 23.8 on the Belle River (on the Gulf Intracoastal Waterway Morgan City to Port Allen Alternate Route (Landside Route)) from 5 p.m. to 8 a.m. nightly and all day on weekends. The impacts to small entities will not be significant because of the limited number of openings required by these vessels. Also the bridge may be opened during non-manned hours with prior notification.

Assistance for Small Entities

Under section 213(a) of the Small Business Regulatory Enforcement Fairness Act of 1996 (Public Law 104-121), we offered to assist small entities in understanding the rule so that they could better evaluate its effects on them and participate in the rulemaking process. No requests for assistance were received pursuant to this rule change.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in the preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not cause an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environmental documentation. Paragraph (32)(e) excludes the promulgation of operating regulations or procedures for drawbridges from the environmental documentation requirements of NEPA.

List of Subjects in 33 CFR Part 117

Bridges.

Regulations

For the reasons set out in the preamble, the Coast Guard is amending Part 117 of Title 33, Code of Federal Regulations as follows:

PART 117—DRAWBRIDGE OPERATION REGULATIONS

1. The authority citation for Part 117 continues to read as follows:

Authority: 33 U.S.C. 499; Department of Homeland Security Delegation No. 0170.1; 33 CFR 1.05-1(g); section 117.255 also issued under the authority of Pub. L. 102-587, 106 Stat. 5039.

2. From May 15, 2004, to January 15, 2005, § 117.424 is suspended and a new § 117.T426 is added to read as follows:

§ 117.T426 Belle River.

The draw of the S70 bridge, mile 23.8 (Landside Route) shall open on signal from 8 a.m. to 5 p.m., Monday through Friday. At all other times, the bridge will open on signal if at least four hours advance notice is given.

Dated: April 5, 2004.
R.F. Duncan,
Rear Admiral, U.S. Coast Guard, Commander, Eighth Coast Guard District.

[FR Doc. 04-8201 Filed 4-9-04; 8:45 am]

BILLING CODE 4910-15-P